NATIONAL SCIENCE FOUNDATION

Proposal Review Panel for Materials Research; Notice of Meeting

In accordance with the Federal Advisory Committee Act (Pub. L. 92-463, as amended), the National Science Foundation (NSF) announces the following meeting:

NAME AND COMMITTEE CODE: MRSEC—Minnesota 2nd Year Virtual Site Visit (1203).

DATE AND TIME: May 19, 2022, 9:30 a.m.-4:00 p.m.

PLACE: NSF, 2415 Eisenhower Avenue, Alexandria, VA 22314 | Virtual.

TYPE OF MEETING: Part-Open.

CONTACT PERSON: Dr. Cosima Boswell-Koller, Program Director, Division of Materials Research, National Science Foundation, 2415 Eisenhower Avenue, Room W 9216, Alexandria, VA 22314; 703/292-8800.

PURPOSE OF MEETING: Virtual site visit to provide an evaluation of the progress of the projects at the host site for the Division of Materials Research at the National Science Foundation.

AGENDA:

May 19, 2022
9:30 a.m.-10:00 a.m | Brief Charge to Panel | CLOSED.
10:00 a.m.-10:10 a.m | Introduction | OPEN.
10:10 a.m.-10:55 a.m | Director's Overview | OPEN.
10:55 a.m.-11:10 a.m | Discussion/Questions | OPEN.
11:10 a.m.-11:30 a.m | IRG-1 Presentation | OPEN.
11:30 a.m.-11:35 a.m | Discussion/Questions | OPEN.
11:35 a.m.-11:45 a.m | Break | OPEN.
11:45 a.m.-12:05 p.m | IRG-2 Presentation | OPEN.
12:05 p.m.-12:10 p.m | Discussion/Questions | OPEN.
12:10 p.m.-12:35 p.m | Education and Outreach, Diversity Plan | OPEN.
12:35 p.m.-12:45 p.m | Discussion/Questions | OPEN.
12:45 p.m.-01:30 p.m | Working Lunch | CLOSED.
01:30 p.m.-02:30 p.m | Poster Session | OPEN.
02:30 p.m.-02:45 p.m | Site Visit Discussion | OPEN.
02:45 p.m.-03:30 p.m | Executive Session | CLOSED.
03:30 p.m.-04:00 p.m | Debriefing | OPEN.
04:00 p.m | Adjourn

REASON FOR CLOSING: The work being reviewed during closed portions of the virtual site visit include information of a proprietary or confidential nature, including technical information; financial data, such as salaries and personal information concerning individuals associated with the project. These matters are exempt under 5 U.S.C. 552b(c), (4) and (6) of the Government in the Sunshine Act.

Dated: January 14, 2022.
Crystal Robinson,
Committee Management Officer.

[FR Doc. 2022-01097 Filed 1-20-22; 8:45 am]

BILLING CODE 7555-01-P